ENVIRONMENTAL PROTECTION AGENCY

[FRL-9198-9]

Drinking Water Strategy Contaminants as Group(s)—Notice of Public Stakeholder Meeting

AGENCY: Environmental Protection Agency (EPA).

ACTION: Notice.

SUMMARY: On March 22, 2010, the Environmental Protection Agency (EPA) Administrator Lisa P. Jackson announced the Drinking Water Strategy, a new vision to expand public health protection for drinking water by going beyond the traditional framework. The Drinking Water Strategy includes the following four principles: Addressing some contaminants as group(s) rather than one at a time so that enhancement of drinking water protection can be achieved cost-effectively; fostering development of new drinking water technologies to address health risks posed by a broad array of contaminants; using the authority of multiple statutes to help protect drinking water; and partnering with States to share more complete data from monitoring at public water systems.

The purpose of this notice is to announce that EPA will be holding a public meeting on September 21, 2010, to engage stakeholders on the first of the four principles, addressing contaminants as group(s). EPA plans to discuss approaches to regulate contaminants as groups and potential contaminant groups, share advantages and disadvantages of various groups, identify issues needing further attention, and discuss potential solutions. EPA invites the public and stakeholders to participate in this information exchange on addressing contaminants as group(s).

Date and Location: The public meeting will be held on Tuesday, September 21, 2010 (8:30 a.m. to 5 p.m., Eastern Daylight Savings Time), at the EPA East Building, Room 1153, 1201 Constitution Avenue, NW., Washington, DC 20460.

FOR FURTHER INFORMATION CONTACT: For technical inquiries, contact Shari Bauman, Standards and Risk Management Division, Office of Ground Water and Drinking Water (MC 4607M), Environmental Protection Agency, 1200 Pennsylvania Ave., NW., Washington, DC 20460 at (202) 564-0293 or bauman.shari@epa.gov. For more information about the Drinking Water Strategy, visit: http://water.epa.gov/lawsregs/rulesregs/sdwa/dwstrategy/index.cfm.

SUPPLEMENTARY INFORMATION: Registration: Individuals planning on participating in the Stakeholder Meeting must register for the meeting by contacting Kate Zimmer of RESOLVE by email to kzimmer@resolv.org no later than September 17, 2010.

Special Accommodations: For information on access or accommodations for individuals with disabilities, please contact Jini Mohanty at (202) 564-5269 or by e-mail at mohanty.jini@epa.gov. Please allow at least five business days prior to the meeting to give EPA time to process your request.

Dated: September 2, 2010.
Cynthia C. Dougherty,
Director, Office of Ground Water and Drinking Water.

[FR Doc. 2010-22470 Filed 9-8-10; 8:45 am]

BILLING CODE 6560-50-P